DEPARTMENT OF HEALTH AND HUMAN SERVICES

National Institutes of Health

National Institute on Drug Abuse; Amended Notice of Meeting

Notice is hereby given of a change in the meeting of the National Advisory Council on Drug Abuse, May 07, 2024, 10:30 a.m. to May 07, 2024, 05:00 p.m., National Institutes of Health, Neuroscience Center, 6001 Executive Boulevard, Rockville, MD 20852, which was published in the Federal Register on March 28, 2024, FR Doc. 2024-06612, 89 FR 21526.

This notice is being amended to change the open session start and end time from 12:45 p.m.-05:00 p.m. to 01:00 p.m.-4:45 p.m. The meeting date, closed session time, and location will stay the same. The meeting is partially closed to the public.

Dated: April 29, 2024.
Lauren A. Fleck,
Program Analyst, Office of Federal Advisory Committee Policy.

[FR Doc. 2024-09603 Filed 5-2-24; 8:45 am]

BILLING CODE 4140-01-P